DEPARTMENT OF TRANSPORTATION

Surface Transportation Board

[Docket No. FD 35921]

Western Washington Railroad, LLC—Lease and Operation Exemption—City of Tacoma, Department of Public Works

Western Washington Railroad, LLC (WWRR) has filed a verified notice of exemption under 49 CFR 1150.41 to lease from the City of Tacoma, Department of Public Works d/b/a Tacoma Rail (Tacoma Rail), and to operate, approximately 34.6 miles of rail line between milepost 33C and milepost 67.6 in Lewis and Thurston Counties, Wash.

WWRR states that, pursuant to a lease and operating agreement dated January 5, 2015, WWRR and Tacoma Rail have renewed their authorized lease ¹ to include approximately an additional 27 miles of rail line. WWRR also states that Tacoma Rail has retained trackage rights over a portion of the line between milepost 33C and Blakeslee Junction to allow for interchange with WWRR, BNSF Railway Company, the Puget Sound and Pacific Railroad, and Union Pacific Railroad Company, and also over the entire line for emergency routing. WWRR notes that the lease between WWRR and Tacoma Rail does not contain any provision that prohibits WWRR from interchanging traffic with a third party or that limits WWRR's ability to interchange with a third party.

¹ W. Wash. R.R.—Lease & Operation Exemption—City of Tacoma, Dep't of Pub. Works, FD 35694 (STB served Dec. 6, 2012).

The proposed transaction may be consummated on or after August 12, 2015, the effective date of this exemption (30 days after the verified notice was filed).

WWRR certifies that the projected annual revenues as a result of this transaction will not result in WWRR's becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed by August 5, 2015 (at least seven days prior to the date the exemption becomes effective).

An original and 10 copies of all pleadings, referring to Docket No. FD 35921, must be filed with the Surface Transportation Board, 395 E Street SW., Washington, DC 20423-0001. In addition, a copy of each pleading must be served on applicant's representative, W. Karl Hansen, Stinson Leonard Street LLP, 150 South Fifth Street, Suite 2300, Minneapolis, MN 55402.

Board decisions and notices are available on our Web site at “WWW.STB.DOT.GOV.”

Decided: July 22, 2015.
By the Board, Joseph H. Dettmar, Acting Director, Office of Proceedings.
Brendetta S. Jones,
Clearance Clerk.

[FR Doc. 2015-18936 Filed 7-30-15; 8:45 am]

BILLING CODE 4915-01-P